DEPARTMENT OF ENERGY

Federal Energy Regulatory Commission

Privacy Act of 1974: Notice of New System of Records

October 19, 2005.

AGENCY: Federal Energy Regulatory Commission, DOE.

ACTION: Notice of new system of records.

SUMMARY: The Federal Energy Regulatory Commission (the Commission), under the requirements of the Privacy Act of 1974, 5 U.S.C. 552a, is publishing a description of a new system of records.

ADDRESSES: Comments should be directed to the following address: Commission Security and Safety Officer, Security and Safety Office, Federal Energy Regulatory Commission, 888 First Street, NE., Washington, DC 20426.

FOR FURTHER INFORMATION CONTACT: Tod M. Henby, Commission Security and Safety Officer, Security and Safety Office, Federal Energy Regulatory Commission, 888 First Street, NE., Washington, DC 20426, (202) 502-6030.

SUPPLEMENTARY INFORMATION:

I. Report on the New System

A. Background

The Privacy Act of 1974, 5 U.S.C. 552a, requires that each agency publish a notice of the existence and character of each new or altered “system of records.” 5 U.S.C. 552a(a)(5). This Notice identifies and describes the Commission's new system of records. A copy of this report has been distributed to the Speaker of the House of Representatives and the President of the Senate as the Act requires.

The Commission has adopted a new system of records under the Privacy Act of 1974. This system does not duplicate any existing agency system. The notice includes for the system of records the name; location; categories of individuals on whom the records are maintained; categories of records in the system; authority for maintenance of the system; each routine use; the policies and practices governing storage, retrievability, access controls, retention and disposal; the title and business address of the agency official responsible for the system of records; procedures for notification, access and contesting the records of each system; and the sources for the records in the system. 5 U.S.C. 552(a)(4).

B. New System of Records

FERC-55 Personal Identity Verification (PIV) Records.

FERC-55

SYSTEM NAME:

Personal Identity Verification Records.

SECURITY CLASSIFCATION:

Unclassified.

SYSTEM LOCATION:

Federal Energy Regulatory Commission, Office of the Executive Director, 888 First Street, NE., Washington, DC 20426.

CATEGORIES OF INDIVIDUALS COVERED BY THE SYSTEM:

Current and former employees, consultants and contractors.

CATEGORIES OF RECORDS IN THE SYSTEM:

Individual's name, individual's address, individual's telephone number, individual's office of assignment, individual's signature, individual's digital photograph, individual's digital and/or paper fingerprint images, individual's social security number, results of individual's background check, PIV sponsor's signature, PIV credential number and PIV expiration date.

AUTHORITY FOR MAINTENANCE OF THE SYSTEM:

41 CFR 101-20.103, HSPD-12/FIPS 201.

PURPOSE(S):

For Federal Government identity management.

ROUTINE USES OF RECORDS MAINTAINED IN THE SYSTEM, INCLUDING CATEGORIES OF USERS AND THE PURPOSES OF SUCH USES:

To document the identity and background of agency employees, contractors and consultants.

DISCLOSURE TO CONSUMER REPORTING AGENCIES:

None.

POLICIES AND PRACTICES FOR STORING, RETRIEVING, ACCESSING, RETAINING, AND DISPOSING OF RECORDS IN THE SYSTEM:

STORAGE:

Paper and computer.

RETRIEVABILITY:

By individual name, PIV credential number.

SAFEGUARDS:

Paper records are in lockable file cabinets in a lockable room with access limited to those employees whose official duties require access; computer data is password protected and backed up.

RETENTION AND DISPOSAL:

Records are maintained for 3 years after final separation. Identification credentials are destroyed after return to security department.

SYSTEM MANAGER(S) AND ADDRESS:

Commission Security and Safety Officer, Security and Safety Office, Federal Energy Regulatory Commission, 888 First Street, NE., Washington, DC 20426.

NOTIFICATION PROCEDURE:

Requests from individuals to determine if a system of records contains information about them should be directed to the System Manager.

RECORD ACCESS PROCEDURES:

Same as notification procedure above.

CONTESTING RECORD PROCEDURES:

Same as notification procedure above.

RECORD SOURCE CATEGORIES:

Employee, contractor, or consultant.

EXEMPTIONS CLAIMED FOR THE SYSTEM:

None.

Magalie R. Salas,
Secretary.

[FR Doc. 05-21270 Filed 10-24-05; 8:45 am]

BILLING CODE 6717-01-P